DEPARTMENT OF EDUCATION

Regional Advisory Committees: Open Meetings

AGENCY: Office of Elementary and Secondary Education, U.S. Department of Education.

ACTION: Notice of open meetings.

SUMMARY: This notice establishes the dates for the upcoming meetings for the Department of Education's 10 Regional Advisory Committees (RACs). Notice of RAC meetings is required under Section 10(a)(2) of the Federal Advisory Committee Act and is intended to notify the public of its opportunity to participate.

FOR FURTHER INFORMATION CONTACT: Fran Walter, 202-205-9198 or at fran.walter@ed.gov.

Location: All meetings will be convened on-line via webinar conference. Preregistration is required. Registration for each meeting will be open two weeks prior to the scheduled date and time of the meeting. The public may register for any of the webinar meetings through the Regional Advisory Committee Web site at http://www.seiservices.com/rac/. The number of public registrations is limited to 300, and registration requests will be accommodated on a first-come first-served basis. Individuals who will need special accommodations to view meeting proceedings online (i.e. interpreting services, assistive listening devices, materials in an alternative format) should make that request during the registration process at least seven days prior to the webinar meeting. We will attempt to meet requests after this date, but cannot guarantee availability of the requested accommodation. Due to time constraints, there will not be an opportunity for public comment during the webinars; however, members of the public are encouraged to submit written comments at http://www.seiservices.com/rac/.

Dates/Times: Meeting times are noted in Eastern Standard Time (EST); except for the Pacific Region.

Appalachia Regional Advisory Committee (Kentucky, Tennessee, Virginia, and West Virginia):

Tuesday, June 14, 2011: 3:00 p.m.-5:00 p.m.

Tuesday, June 21, 2011: 3:00 p.m.-5:00 p.m.

Mid-Atlantic Regional Advisory Committee (Delaware, Maryland, New Jersey, Pennsylvania, and Washington, DC):

Thursday, June 9, 2011: 1:00 p.m.-3:00 p.m.

Thursday, June 16, 2011: 1:00 p.m.-3:00 p.m.

Central Regional Advisory Committee (Colorado, Kansas, Missouri, Nebraska, North Dakota, and Wyoming):

Monday, June 13, 2011: 3:00 p.m.-5:00 p.m.

Monday, June 20, 2011: 3:00 p.m.-5:00 p.m.

Midwest Regional Advisory Committee (Illinois, Indiana, Iowa, Michigan, Minnesota, Ohio, and Wisconsin):

Tuesday, June 14, 2011: 1:00 p.m.-3:00 p.m.

Tuesday, June 21, 2011: 1:00 p.m.-3:00 p.m.

Northeast and Islands Regional Advisory Committee (Connecticut, Maine, Massachusetts, New Hampshire, New York, Rhode Island, Vermont, Puerto Rico, and the Virgin Islands):

Thursday, June 16, 2011: 10:00 a.m.-12:00 p.m.

Thursday, June 23, 2011: 10:00 a.m.-12:00 p.m.

Northwest Regional Advisory Committee (Alaska, Idaho, Montana, Oregon, and Washington):

Tuesday, June 14, 2011: 12:30 p.m.-2:30 p.m.

Tuesday, June 21, 2011: 12:30 p.m.-2:30 p.m.

Southeast Regional Advisory Committee (Alabama, Florida, Georgia, Mississippi, North Carolina, South Carolina):

Monday, June 13, 2011: 11:00 a.m.-1:00 p.m.

Monday, June 20, 2011: 11:00 a.m.-1:00 p.m.

Southwest Regional Advisory Committee (Arkansas, Louisiana, New Mexico, Oklahoma, and Texas):

Thursday, June 16, 2011: 10:00 a.m.-12:00 p.m.

Thursday, June 23, 2011: 10:00 a.m.-12:00 p.m.

West Regional Advisory Committee (Arizona, California, Nevada, and Utah):

Tuesday, June 14, 2011: 12:30 p.m.-2:30 p.m.

Tuesday, June 21, 2011: 12:30 p.m.-2:30 p.m.

Pacific Regional Advisory Committee (Hawaii, American Samoa, Commonwealth of Northern Mariana Islands, Federal States of Micronesia, Guam, the Republic of Palau, and the Republic of Marshall Islands):

Wednesday, June 8, 2011: 1:00 p.m.-3:00 p.m. Hawaii Time/12:00 p.m.-2 p.m. Samoa Standard Time; and

Thursday, June 9, 2011: 11:00 a.m.-1 p.m. Marshall Islands Time/9:00 a.m.-11 a.m. Guam/FSM/CNMI Time; and 8:00 a.m.-10 a.m. Palau Time)

Wednesday, June 15, 2011: 1:00 p.m-3:00 p.m. Hawaii Time/12:00 p.m.- 2:00 p.m. Samoa Standard Time; and

Thursday, June 16, 2011: 11:00 a.m.-1 p.m. Marshall Islands Time/9:00 a.m.-11 a.m. Guam/FSM/CNMI Time; and 8:00 a.m.-10:00 a.m. Palau Time)

SUPPLEMENTARY INFORMATION: The Regional Advisory Committees are established under section 206 of the Education Technical Assistance Act of 2002, (20 U.S.C. 9605). The RACs are to advise the Secretary by (1) conducting an educational needs assessment of each region identified in section 174(b) of the Education Sciences Reform Act of 2002; and (2) submitting reports for each region based on the regional assessments no later than four months after the committees are first convened.

Meeting Purpose: The purpose of these meetings is for each RAC to conduct a minimum of two 2-hour meetings to deliberate on the findings and to prepare their region's educational needs assessment report.

Meeting 1: The RACs will (1) review input received from stakeholders and, based on the information received, deliberate and make recommendations about the critical education needs of the region. The RACs will also (2) recommend how those educational needs could best be addressed.

Meeting 2: RAC members will meet to deliberate on and finalize the education needs assessment report for their region.

The public may listen to the proceedings of the meetings via real-time webinar conferencing. Registration for each meeting will be open two weeks prior to the scheduled date of the meeting and close two hours before the meeting convenes. The public may register for the webinar meetings at http://www.seiservices.com/rac/. Preregistration is required. The number of public registrations is limited to 300, and requests will be accommodated on a first-come first-served basis. Individuals who will need special accommodations to view meeting proceedings online (i.e. interpreting services, assistive listening devices, materials in an alternative format) should indicate what accommodation is needed at the time of registration, at least seven days prior to the webinar meeting. We will attempt to meet requests after this date, but cannot guarantee availability of the requested accommodation. Due to time constraints, there will not be an opportunity for public comment. However, members of the public are encouraged to submit written comments at http://www.seiservices.com/rac/.

A summary of each meeting will be available online at http://www.seiservices.com/rac/ within fourteen days of the final meeting for public inspection. Feedback from this and other outreach will be used to inform the Comprehensive Centers Program competition in fiscal year (FY) 2012.

Thelma Meléndez de Santa Ana,
Assistant Secretary for Elementary and Secondary Education.

[FR Doc. 2011-12958 Filed 5-24-11; 8:45 am]

BILLING CODE 4000-01-P